DEPARTMENT OF COMMERCE

International Trade Administration

[A-552-802]

Certain Frozen Warmwater Shrimp From the Socialist Republic of Vietnam: Preliminary Results of Antidumping Duty Administrative Review, 2011-2012

AGENCY: Import Administration, International Trade Administration, Department of Commerce.

SUMMARY: In response to requests from interested parties, the Department of Commerce (“Department”) is conducting the administrative review of the antidumping duty order on certain frozen warmwater shrimp from the Socialist Republic of Vietnam (“Vietnam”) for the period of review (“POR”) February 1, 2011, through January 31, 2012. The Department has preliminarily determined that sales by the Minh Phu Group,¹ and Nha Trang Seafoods,² the two mandatory respondents, and Quoc Viet,³ the voluntary respondent, have not been made below normal value (“NV”). Additionally, the Department has preliminarily determined not to revoke the order in part, with respect to Nha Trang Seafoods.⁴

¹ Minh Phu Seafood Corporation, Minh Qui Seafood Co., Ltd., Minh Phat Seafood Co., Ltd. (collectively, the “Minh Phu Group”).

² Nha Trang Seaproduct Company and its affiliates, NT Seafoods Corporation, Nhatrang Seafoods-F.89 Joint Stock Company, and NTSF Seafoods Joint Stock Company (collectively, the “Nha Trang Seafoods”).

³ Quoc Viet Seaproducts Processing Trading and Import-Export Co., Ltd. (“Quoc Viet”).

⁴ See “Decision Memorandum for Preliminary Results for the Antidumping Duty Administrative Review of Certain Frozen Warmwater Shrimp from the Socialist Republic of Vietnam,” (“Preliminary Decision Memorandum”) from Christian Marsh, Deputy Assistant Secretary for Antidumping and Countervailing Duty Operations to Paul Piquado, Assistant Secretary for Import Administration, dated concurrently with these results at 5.

DATES: Effective Date: March 12, 2013.

FOR FURTHER INFORMATION CONTACT: Bob Palmer, Irene Gorelik, and Alan Ray, AD/CVD Operations, Office 9, Import Administration, International Trade Administration, Department of Commerce, 14th Street and Constitution Avenue NW., Washington, DC 20230; telephone: (202) 482-9068, (202) 482-6905, and (202) 482-5403, respectively.

SUPPLEMENTARY INFORMATION:

Scope of the Order

The merchandise subject to the order is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10.⁵ Although the HTSUS numbers are provided for convenience and for customs purposes, the written product description, available in Certain Frozen Warmwater Shrimp From Brazil, India, the People's Republic of China, Thailand, and the Socialist Republic of Vietnam: Amended Antidumping Duty Orders in Accordance with Final Court Decision, 76 FR 23277 (April 26, 2011), remains dispositive.

⁵ See Preliminary Decision Memorandum for a complete description of the scope of the order.

Methodology

The Department has conducted this review in accordance with section 751(a)(1)(A) of the Tariff Act of 1930, as amended (“the Act”). Constructed export prices and export prices have been calculated in accordance with section 772 of the Act. Because Vietnam is a nonmarket economy within the meaning of section 771(18) of the Act, normal value has been calculated in accordance with section 773(c). Specifically, the mandatory and voluntary respondent's factors of production have been valued with prices from Indonesia, which is economically comparable to Vietnam and is a significant producer of comparable merchandise.

For a full description of the methodology underlying our conclusions, please see Preliminary Decision Memorandum, dated concurrently with these results and hereby adopted by this notice. The Preliminary Decision Memorandum is a public document and is on file electronically via Import Administration's Antidumping and Countervailing Duty Centralized Electronic Service System (“IA ACCESS”). IA ACCESS is available to registered users at http://iaaccess.trade.gov and in the Central Records Unit (“CRU”), room 7046 of the main Department of Commerce building. In addition, a complete version of the Preliminary Decision Memorandum can be accessed directly on the internet at http://www.trade.gov/ia/. The signed Preliminary Decision Memorandum and the electronic versions of the Preliminary Decision Memorandum are identical in content.

Intent Not To Revoke Order in Part

We preliminarily determine ⁶ not to revoke in part the order with respect to Nha Trang Seafoods, under section 751 of the Act, because we preliminarily find that Nha Trang Seafoods has not satisfied the requirements of 19 CFR 351.222(b).⁷

⁶ See Preliminary Decision Memorandum.

⁷ The Department recently modified the section of its regulations concerning the revocation of antidumping and countervailing duty orders in whole or in part, but that modification does not apply to this administrative review. See Modification to Regulation Concerning the Revocation of Antidumping and Countervailing Duty Orders, 77 FR 29875 (May 21, 2012). Reference to 19 CFR 351.222(b) thus refers to the Department's regulations prior to the modification.

Verification

As provided in sections 782(i)(3)(A)-(B) of the Act, we intend to verify the information upon which we will rely in determining our final results of review with respect to the Minh Phu Group.

Preliminary Results of Review

The Department preliminarily determines that the following weighted-average dumping margins exist:

⁸ In AR6 VN Shrimp, the Department found the companies comprising the Minh Phu Group are a single entity and, because there have been no changes to this determination since the sixth administrative review; we continue to find these companies to be part of a single entity. Therefore, we will assign this rate to the companies in the single entity. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012) (“AR6 VN Shrimp”).

⁹ In AR5 VN Shrimp, the Department found the companies comprising Nha Trang Seafoods are a single entity and, because there have been no changes to this determination since the fifth administrative review; we continue to find these companies to be part of a single entity. Therefore, we will assign this rate to the companies in the single entity. See Certain Frozen Warmwater Shrimp From the Socialist Republic of Vietnam: Preliminary Results, Partial Rescission, and Request for Revocation, In Part, of the Fifth Administrative Review, 76 FR 12054, 12056 (March 4, 2012), unchanged in Certain Frozen Warmwater Shrimp From the Socialist Republic of Vietnam: Final Results and Final Partial Rescission of Antidumping Duty Administrative Review, 76 FR 56158 (September 12, 2011) (“AR5 VN Shrimp”).

¹⁰ The Department selected Quoc Viet Seaproducts Processing Trading and Import-Export Co., Ltd. as a voluntary respondent in this review. See Preliminary Decision Memorandum, at 3.

Exporter | Simple average margin (percent)
Minh Phu Group: ⁸ | 0.00
Minh Phu Seafood Corp., aka
Minh Phu Seafood Corporation, aka
Minh Phu Seafood Pte, aka
Minh Phu Hau Giang Seafood Co., Ltd., aka
Minh Phat Seafood Co., Ltd., aka
Minh Qui Seafood Co., Ltd., aka
Minh Qui Seafood
Nha Trang Seafoods: ⁹ | 0.00
Nha Trang Seaproducts Company, aka
Nha Trang Seafoods, aka
NT Seafoods Corporation, aka
NT Seafoods, aka
Nha Trang Seafoods—F.89 Joint Stock Company, aka
Nha Trang Seafoods—F.89, aka
NTSF Seafoods Joint Stock Company, aka
NTSF Seafoods
Quoc Viet Seaproducts Processing Trading and Import-Export Co., Ltd.¹⁰ | 0.00
Bac Lieu Fisheries Joint Stock Company, aka | 0.00
Bac Lieu Fisheries Company Limited, aka
Bac Lieu Fisheries Co., Ltd., aka
Bac Lieu Fisheries Limited Company, aka
Bac Lieu Fis
BIM Seafood Joint Stock Company | 0.00
Camau Frozen Seafood Processing Import Export Corporation, aka | 0.00
Camimex, aka
Camau Seafood Factory No. 4, aka
Camau Seafood Factory No. 5, aka
Camau Frozen Seafood Processing Import Export Corp. (CAMIMEX-FAC 25), aka
Frozen Factory No. 4
C.P. Vietnam Corporation, aka | 0.00
C.P. Vietnam Livestock Corporation, aka
C.P. Vietnam Livestock Company Limited, aka
C.P. Vietnam Livestock Co., Ltd., aka
C.P. Vietnam
Cadovimex Seafood Import-Export and Processing Joint Stock Company, aka | 0.00
Cai Doi Vam Seafood Import-Export Company, aka
Caidoivam Seafood Company, aka
Cadovimex-Vietnam, aka
Cadovimex
Cafatex Fishery Joint Stock Corporation, aka | 0.00
Cafatex Corporation, aka
Cafatex Corp., aka
Cafatex, aka
Cantho Animal Fisheries Product Processing Export Enterprise (Cafatex), aka
Cafatex, aka
Taydo Seafood Enterprise, aka
Xi Nghiep Che Bien Thuy Suc San Xuat Kau Cantho
Can Tho Import Export Fishery Limited Company, aka | 0.00
CAFISH
Coastal Fisheries Development Corporation, aka | 0.00
COFIDEC, aka
Coastal Fisheries Development Corp., aka
Coastal Fisheries Development Co. aka
Coastal Fisheries Development
Cuu Long Seaproducts Company, aka | 0.00
Cuu Long Seaproducts Limited, aka
Cuulong Seapro aka
Cuu Long Seapro
Danang Seaproducts Import Export Corporation, aka | 0.00
Danang Sea Products Import Export Corporation, aka
Danang Seaproduct Import-Export Corporation, aka
Danang Seaproducts Import Export, aka
Tho Quang Seafood Processing & Export Company, aka
Tho Quang Seafood Processing and Export Company, aka
Tho Quang, aka
Tho Quang Co., aka
Seaprodex Danang
Viet I-Mei Frozen Foods Co., Ltd., aka | 0.00
Grobest & I-Mei Industrial (Vietnam) Co., Ltd., aka
Grobest & I-Mei Industry (Vietnam) Co., Ltd., aka
Grobest
Gallant Ocean (Vietnam) Co., Ltd., aka | 0.00
Gallant Ocean (Quang Ngai) Co., Ltd.
Investment Commerce Fisheries Corporation, aka | 0.00
Investment Commerce Fisheries Corp., aka
Investment Commerce Fisheries, aka
Incomfish, aka
Incomfish Corp., aka
Incomfish Corporation
Kim Anh Company Limited, aka | 0.00
Kim Anh Co, Ltd.
Minh Hai Export Frozen Seafood Processing Joint-Stock Company, aka | 0.00
Minh Hai Jostoco, aka
Minh Hai Export Frozen Seafood Processing Joint Stock Company, aka
Minh Hai Export Frozen Seafood Processing Joint-Stock Co., aka
Minh-Hai Export Frozen Seafood Processing Joint-Stock Company
Minh Hai Joint-Stock Seafoods Processing Company, aka | 0.00
Seaprodex Minh Hai, aka
Sea Minh Hai, aka
Seaprodex Min Hai, aka
Seaprodex Minh Hai-Factory No. 78, aka
Seaprodex Minh Hai (Minh Hai Joint Stock Seafoods Processing Co.), aka
Seaprodex Minh Hai (Workshop 1), aka
Seaprodex Minh Hai Factory No. 69
Minh Hai Sea Products Import Export Company, aka | 0.00
Ca Mau Seafood Joint Stock Company, aka
Seaprimexco Vietnam aka
Seaprimexco aka
Minh Hai Seaproducts Co Ltd.
Ngoc Sinh Private Enterprise, aka | 0.00
Ngoc Sinh Private Enterprises, aka
Ngoc Sinh Seafoods, aka
Ngoc Sinh Seafoods Processing and Trading Enterprises, aka
Ngoc Sinh Seafood Processing Company, aka
Ngoc Sinh Seafoods (Private Enterprise), aka
Ngoc Sinh Fisheries, aka
Ngoc Sinh
Ngoc Tri Seafood Joint Stock Company | 0.00
Nhat Duc Co., Ltd., aka | 0.00
Nhat Duc
Nha Trang Fisheries Joint Stock Company, aka | 0.00
Nha Trang Fisco aka
Nhatrang Fisheries Joint Stock Company, aka
Nhatrang Fisco, aka
Nha Trang Fisheries, Joint Stock
Phu Cuong Jostoco Seafood Corporation, aka | 0.00
Phu Cuong Seafood Processing and Import-Export Co., Ltd., aka
Phu Cuong Seafood Processing and Import Export Company Limited, aka
Phu Cuong Jostoco Seafood Corp.
Phuong Nam Foodstuff Corp. aka | 0.00
Phuong Nam, aka
Phuong Nam Co., Ltd., aka
Western Seafood Processing and Exporting Factory, aka
Western Seafood
Sao Ta Foods Joint Stock Company, aka | 0.00
Fimex VN aka
Sao Ta Seafood Factory aka
Saota Seafood Factory
Seavina Joint Stock Company, aka | 0.00
Seavina
Soc Trang Seafood Joint Stock Company, aka | 0.00
Stapimex, aka
Soc Trang Aquatic Products and General Import Export Company, aka
Stapimex Soc Trans Aquatic Products and General Import Export Company, aka
Stapmex
Thuan Phuoc Seafoods and Trading Corporation, aka | 0.00
Thuan Phuoc Corp., aka
Frozen Seafoods Factory No. 32, aka
Seafoods and Foodstuff Factory, aka
Seafoods and Foodstuff Factory Vietnam, aka
My Son Seafoods Factory
UTXI Aquatic Products Processing Corporation, aka | 0.00
UT XI Aquatic Products Processing Corporation, aka
UTXI Aquatic Products Processing Company, aka
UT XI Aquatic Products Processing Company, aka
UTXI Co. Ltd., aka
UTXI, aka
Hoang Phuong Seafood Factory, aka
Hoang Phong Seafood Factory, aka
UTXICO
Viet Foods Co., Ltd., aka | 0.00
Nam Hai Foodstuff and Export Company Ltd.
Viet Hai Seafood Co., Ltd., aka | 0.00
Vietnam Fish One Co., Ltd., aka
Fish One
Vietnam-wide Entity | 25.76

Disclosure and Public Comment

The Department will disclose the calculations used in our analysis to parties in this review within five days of the date of publication of this notice. Interested parties, who wish to request a hearing, or to participate if one is requested, must submit a written request to the Assistant Secretary for Import Administration, U.S. Department of Commerce, filed electronically using IA ACCESS. An electronically filed document must be received successfully in its entirety in IA ACCESS, by 5 p.m. Eastern Time within 30 days after the date of publication of this notice.¹¹ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing. Interested parties are invited to comment on the preliminary results of this review.

¹¹ See 19 CFR 351.310(c).

Because, as noted above, the Department intends to verify the information upon which we will rely in making our final determination with respect to the Minh Phu Group, the Department will establish the briefing schedule at a later time, and will notify parties of the schedule in accordance with 19 CFR 351.309. Parties who submit case briefs or rebuttal briefs in this proceeding are requested to submit with each argument: (1) A statement of the issue; (2) a brief summary of the argument; and (3) a table of authorities.¹²

¹² See 19 CFR 351.309(c) and (d).

The Department intends to issue the final results of this administrative review, including the results of our analysis of issues raised in the written comments, within 120 days of publication of these preliminary results in the Federal Register.

Assessment Rates

Upon issuance of the final results, the Department will determine, and U.S. Customs and Border Protection (“CBP”) shall assess, antidumping duties on all appropriate entries covered by this review.¹³ The Department intends to issue assessment instructions to CBP 15 days after the publication date of the final results of this review. For any individually examined respondent whose weighted average dumping margin is above de minimis (i.e., 0.50 percent) in the final results of this review, the Department will calculate importer-specific assessment rates on the basis of the ratio of the total amount of dumping calculated for the importer's examined sales and the total entered value of sales, in accordance with 19 CFR 351.212(b)(1). In these preliminary results, the Department applied the assessment rate calculation method adopted in Final Modification for Reviews, i.e., on the basis of monthly average-to-average comparisons using only the transactions associated with that importer with offsets being provided for non-dumped comparisons. Where an importer- (or customer-) specific ad valorem rate is greater than de minimis, the Department will instruct CBP to collect the appropriate duties at the time of liquidation.¹⁴ Where an importer- (or customer-) specific ad valorem is zero or de minimis, the Department will instruct CBP to liquidate appropriate entries without regard to antidumping duties.¹⁵

¹³ See 19 CFR 351.212(b).

¹⁴ See 19 CFR 351.212(b)(1).

¹⁵ See 19 CFR 351.106(c)(2).

Additionally, pursuant to a recently announced refinement to its assessment practice in NME cases, if the Department continues to determine that an exporter under review had no shipments of the subject merchandise, any suspended entries that entered under that exporter's case number (i.e., at that exporter's rate) will be liquidated at the PRC-wide rate.¹⁶

¹⁶ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: March 4, 2013.
Paul Piquado,
Assistant Secretary for Import Administration.

Appendix

List of Topics Discussed in the Preliminary Decision Memorandum:

1. Background

2. Respondent Selection

3. Scope of the Order

4. Request for Revocation, in Part

5. Preliminary Determination of No Shipments

6. Non-Market Economy Country

7. Separate Rates

8. Separate Rate Calculation

9. Vietnam-Wide Entity

10. Surrogate Country and Surrogate Value Data

11. Surrogate Country

12. Economic Comparability

13. Significant Producers of Comparable Merchandise

14. Data Availability

15. Date of Sale

16. Fair Value Comparisons

17. Targeted Dumping

18. Results of Targeted Dumping Analysis

19. U.S. Price

20. Factor Valuations

21. Currency Conversion

[FR Doc. 2013-05669 Filed 3-11-13; 8:45 am]

BILLING CODE 3510-DS-P